SECURITIES AND EXCHANGE COMMISSION

[File No. 1-14813]

Issuer Delisting; Notice of Application of ThinkPath Inc. To Withdraw its Common Stock, No Par Value, From Listing and Registration on the Boston Stock Exchange, Inc.

March 5, 2003.

ThinkPath Inc., an Ontario corporation (“Issuer”), has filed an application with the Securities and Exchange Commission (“Commission”), pursuant to section 12(d) of the Securities Exchange Act of 1934 (“Act”)¹ and Rule 12d2-2(d) thereunder,² to withdraw its Common Stock, no par value (“Security”), from listing and registration on the Boston Stock Exchange, Inc. (“BSE” or “Exchange”).

¹ 15 U.S.C. 78l(d).

² 17 CFR 240.12d2-2(d).

On February 24, 2003, the Board of Directors of the Issuer approved a resolution to withdraw the Security from listing on the BSE. The Issuer states that the following reason factored into the Board's decision to withdraw the Security: the overwhelming majority of its shareholders trade on the OTC Bulletin Board (“OTCBB”) and therefore the complying rules and administrative requirements of the BSE represent a significant cost to the Issuer and its shareholders without an apparent significant benefit. The Issuer believes that its Security will continue to trade on the OTCBB.

The Issuer stated in its application that it has complied with the Rules of the BSE that govern the removal of securities from listing and registration on the Exchange. The Issuer's application relates solely to the Security's withdrawal from listing on the BSE and from registration under section 12(b) of the Act ³ and shall not affect its obligation to be registered under section 12(g) of the Act.⁴

³ 15 U.S.C. 78l(b).

⁴ 15 U.S.C. 78l(g).

Any interested person may, on or before March 28, 2003, submit by letter to the Secretary of the Securities and Exchange Commission, 450 Fifth Street, NW, Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-5771 Filed 3-10-03; 8:45 am]

BILLING CODE 8010-01-P